SMALL BUSINESS ADMINISTRATION

[Declaration of Disaster #3291]

State of Idaho; Amendment #2

In accordance with a notice from the Federal Emergency Management Agency, dated September 26, 2000, the above-numbered Declaration is hereby amended to establish the incident period for this disaster as beginning on July 27, 2000 and continuing through September 26, 2000.

All other information remains the same, i.e., the deadline for filing applications for physical damage is October 31, 2000 and for economic injury the deadline is June 1, 2001.

(Catalog of Federal Domestic Assistance Program Nos. 59002 and 59008)

Dated: September 29, 2000.
Herbert L. Mitchell,
Acting Associate Administrator for Disaster Assistance.

[FR Doc. 00-26245 Filed 10-12-00; 8:45 am]

BILLING CODE 8025-01-P